DEPARTMENT OF HEALTH AND HUMAN SERVICES

Solicitation for Written Comments on the Development of Healthy People 2030

AGENCY: Office of Disease Prevention and Health Promotion, Office of the Assistant Secretary for Health, Office of the Secretary, Department of Health and Human Services.

ACTION: Notice.

SUMMARY: The Office of Disease Prevention and Health Promotion, Office of the Assistant Secretary for Health, U.S. Department of Health and Human Services (HHS), is soliciting written comments on the Healthy People 2030 proposed framework, including the vision, mission, overarching goals, plan of action, and foundational principles. Every 10 years, through the Healthy People initiative, HHS leverages scientific insights and lessons from the past decade along with new knowledge of current data, trends, and innovations to develop the next iteration of national health promotion and disease prevention objectives. Healthy People provides science-based, 10-year national objectives for promoting health and preventing disease. Since 1979, Healthy People has set and monitored national health objectives to meet a broad range of health needs, encouraged collaborations across sectors, guided individuals toward making informed health decisions, and measured the impact of our prevention and health promotion activities. Healthy People 2030 will reflect assessments of major risks to health and wellness, changing public health priorities, new knowledge in prevention, and emerging issues related to our nation's health preparedness.

DATES: In order for comments on the proposed vision, mission, overarching goals, and framework for Healthy People 2030 to be considered, written comments must be submitted via the Internet at www.HealthyPeople.gov by 5:00 p.m. Eastern Time on September 29, 2017.

ADDRESSES: The proposed framework for Healthy People 2030 can be viewed and commented upon at http://www.healthypeople.gov.

FOR FURTHER INFORMATION CONTACT: Ayanna Johnson, Public Health Advisor, U.S. Department of Health and Human Services, Office of the Assistant Secretary for Health, Office of Disease Prevention and Health Promotion, 1101 Wootton Parkway, Suite LL100, Rockville, MD 20852, HP2030@hhs.gov (email), or (240) 245-8281 (fax).

SUPPLEMENTARY INFORMATION: Background: The Healthy People development process strives to maximize transparency, public input and stakeholder dialogue to ensure that Healthy People 2030 is relevant to diverse public health needs and seizes opportunities to achieve its goals. Since its inception, Healthy People has become a broad-based, public engagement initiative with thousands of citizens helping to shape it at every step along the way. Drawing on the expertise of a Secretary's Advisory Committee on National Health Promotion and Disease Prevention Objectives for 2030 and public input, Healthy People will be organized to establish a framework to address risk factors and determinants of health and the diseases and disorders that are affecting our communities. Public participation will shape Healthy People 2030, its purpose, goals, organization, and action plans. HHS is soliciting written public comments on the development of Healthy People 2030 through online public comment. As a national initiative, Healthy People's success depends on a coordinated commitment to improve the health of the nation. Individuals may subscribe to the listserv at: http://bit.ly/2g3tqdE for the latest information on Healthy People 2020 and Healthy People 2030.

Authority: 42 U.S.C. 200u.

Dated: June 1, 2017.
Don Wright,
Deputy Assistant Secretary for Health, Disease Prevention and Health Promotion.

[FR Doc. 2017-13463 Filed 6-27-17; 8:45 am]

BILLING CODE 4150-32-P